LIBRARY OF CONGRESS

Copyright Office

37 CFR Part 201

[Docket No. RM 99-7A]

Exemption to Prohibition on Circumvention of Copyright Protection Systems for Access Control Technologies

AGENCY: Copyright Office, Library of Congress.

ACTION: Extension of initial comment period and reply comment period. Expansion of file formats acceptable for electronic submission of comments.

SUMMARY: The Copyright Office is extending the comment period and the reply comment period in the rulemaking on possible exemptions to the prohibition against circumvention of technological measures that control access to copyrighted works. The Office is also expanding the list of formats in which acceptable comments may be submitted electronically.

DATES: Written comments are due February 17, 2000. Reply comments are due March 20, 2000.

ADDRESSES: Submissions by electronic mail should be made to “1201@loc.gov”. See SUPPLEMENTARY INFORMATION section for file formats and other information about electronic filing. If delivered by hand, comments should be delivered to the Office of the General Counsel, Copyright Office, LM-403, James Madison Memorial Building, 101 Independence Avenue, S.E., Washington, DC. If delivered by mail, comments should be addressed to David O. Carson, General Counsel, Copyright GC/I&R, P.O. Box 70400, Southwest Station, Washington, DC 20024. See SUPPLEMENTARY INFORMATION section for information about formats of submissions.

FOR FURTHER INFORMATION CONTACT: David O. Carson, General Counsel, Charlotte Douglass, Principal Legal Advisor, or Robert Kasunic, Senior Attorney Advisor, Copyright GC/I&R, P.O. Box 70400, Southwest Station, Washington, DC 20024. Telephone (202) 707-8380; telefax (202) 707-8366.

SUPPLEMENTARY INFORMATION: On November 24, 1999, the Copyright Office published a Notice of Inquiry seeking comment in connection with a rulemaking pursuant to section 1201(a)(1) of the Copyright Act, 17 U.S.C. 1201(a)(1), which provides that the Librarian of Congress may exempt certain classes of works from the prohibition against circumventing a technological measure that controls access to a copyrighted work. 64 FR 66139 (November 24, 1999). Comments were due on February 10, 2000; reply comments were due on March 13, 2000.

The Office has, however, received a request for a one-week extension of the filing deadline for initial comments. Moreover, the Office has already received a number of comments submitted in electronic form, and a number of those comments have not met the format requirements for electronic submissions. The Office has, therefore, decided to extend the deadlines for filing of initial and reply comments by one week in order to accommodate the request for additional time and in order to provide those persons who have submitted comments in unacceptable formats an opportunity to correct their submissions.

The new deadlines are: February 17, 2000 for initial comments and March 20, 2000 for reply comments.

As stated in the Notice of Inquiry, the Office will be placing all comments and reply comments that are submitted in electronic form on its website (http://lcweb.loc.gov/copyright/1201). Because of this, the Office prefers that comments and reply comments be submitted in electronic form. The Office has already received a large number of comments in this form, and many have not been in acceptable formats. The Notice of Inquiry required that comments sent by e-mail must be sent in the form of a MIME attachment to an e-mail message, and the attachment must be in a single file in either (1) Adobe Portable Document File (PDF) format (preferred); (2) Microsoft Word Version 7.0 or earlier; or (3) WordPerfect 7 or earlier. It also stated that comments may be submitted in electronic form on 3.5-inch write-protected diskettes or in traditional written (hard copy print) form.

The Office has received some complaints that restricting electronic comments to these three proprietary formats (Adobe PDF, Microsoft Word and WordPerfect) has created difficulties for some persons who wish to submit comments electronically. The Office is, therefore, expanding the list of acceptable formats for comments in electronic form. If submitted by e-mail, such comments must still be submitted as MIME file attachments to e-mail messages. Whether submitted by e-mail or on diskettes, comments may also be submitted in ASCII text file format or RTF (Rich Text File) format.

Concern has also been expressed about the requirement that comments include not only the name of the person making the submission, but also the submitter's mailing address, telephone number, telefax number and e-mail address. All comments submitted in electronic form will be posted on the Office's website, and some persons making comments may prefer that such personal information not be made available on the Internet. The Office is, therefore, amending the requirements relating to identifying information that must be included in a comment. At the same time it is affirming that the filer's name must be on a comment. Persons submitting electronic comments in electronic form must also include, in the e-mail message to which the comment is attached or in a cover letter accompanying the diskette, all such identifying information. Persons submitting comments in traditional written form should note that the Office may post some or all of those comments on its website; therefore, such persons who do not wish to have such identifying information made available on the website should include that information in a separate cover letter accompanying the comments.

The Office is amending its instructions concerning formats for comments as follows:

Comments and reply comments may be submitted in electronic form, in one of the following formats:

1. If by electronic mail: Send to “1201@loc.gov” a message containing the name of the person making the submission, his or her title and organization (if the submission is on behalf of an organization), mailing address, telephone number, telefax number (if any) and e-mail address. The message should also identify the document clearly as either a comment or reply comment. The document itself must be sent as a MIME attachment, and must be in a single file in either: (1) Adobe Portable Document File (PDF) format (preferred); (2) Microsoft Word Version 7.0 or earlier; (3) WordPerfect 7 or earlier; (4) ASCII text file format; or (5) Rich Text File (RTF) format.

2. If by regular mail or hand delivery: Send, to the appropriate address listed above, two copies of the comment, each on a 3.5-inch write-protected diskette, labeled with the name of the person making the submission and, if applicable, his or her title and organization. Either the document itself or a cover letter must also include the name of the person making the submission, his or her title and organization (if the submission is on behalf of an organization), mailing address, telephone number, telefax number (if any) and e-mail address (if any). The document itself must be in a single file in either (1) Adobe Portable Document File (PDF) format (preferred); (2) Microsoft Word Version 7.0 or earlier; (3) WordPerfect Version 7 or earlier; (4) ASCII text file format; or (5) Rich Text File (RTF) format.

3. If by print only: Anyone who is unable to submit a comment in electronic form should submit an original and fifteen paper copies by hand or by mail to the appropriate address listed above. It may not be feasible for the Office to place these comments on its website.

All written comments (in electronic or nonelectronic form) should contain the name of the person making the submission, his or her title and organization (if the submission is on behalf of an organization), mailing address, telephone number, telefax number (if any) and e-mail address (if any). All written comments must at a minimum contain the name of the person making the submission.

The Office has already received some comments designated as “reply comments.” Persons submitting comments should note that a comment should not be designated as a “reply comment” unless submitted in response to one or more initial comments made by other persons. Moreover, reply comments, which are now due on March 20, 2000, should not be submitted until after the February 17, 2000 deadline for submission of initial comments.

Dated: February 8, 2000.
David O. Carson,
General Counsel.

[FR Doc. 00-3200 Filed 2-9-00; 8:45 am]

BILLING CODE 1410-30-P